DEPARTMENT OF THE INTERIOR

Bureau of Land Management

[LLNVS00000.L54400000.RB0000. LVCLF1705370 N-94491; 11-08807; MO#4500125057; TAS: 17X]

Notice of Realty Action: Direct Sale of Public Land to the City of Henderson, NV

AGENCY: Bureau of Land Management, Interior.

ACTION: Notice of realty action.

SUMMARY: The Bureau of Land Management (BLM) is proposing a non-competitive (direct) sale of 10 acres of public land to the City of Henderson, Nevada, pursuant to the Southern Nevada Public Land Management Act of 1998 (SNPLMA), as amended, and applicable provisions of the Federal Land Policy and Management Act of 1976 (FLPMA) and BLM land sale regulations. This parcel was nominated by the local government for future development of homes and businesses for the expansion of growing communities in the City of Henderson.

DATES: Interested parties may submit written comments regarding this direct sale until November 19, 2018.

ADDRESSES: Mail written comments to the BLM Las Vegas Field Office, Assistant Field Manager, 4701 North Torrey Pines Drive, Las Vegas, NV 89130.

FOR FURTHER INFORMATION CONTACT: Joe Fields, Realty Specialist, BLM Las Vegas Field Office at telephone: 702-515-5194, email: jfields@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This property is located near a strategic location in the City of Henderson and the local government has an interest in ensuring the property is ultimately developed. The appraised fair market value for the sale parcel is $4,120,000. The parcel is located in the City of Henderson on the corner of St. Rose Parkway and Bowes Avenue and is legally described as: Mount Diablo Meridian, Nevada T. 23 S., R. 61 E., sec. 9, NE¼NW¼NW¼. The area described contains 10.00 acres.

This sale is in conformance with the BLM Las Vegas Resource Management Plan decisions LD-1 and LD-2, approved on October 5, 1998. The Las Vegas Valley Disposal Boundary Environmental Impact Statement and Record of Decision issued on December 23, 2004, analyzed the sale parcel. A parcel-specific Determination of National Environmental Policy Act Adequacy (DNA) document numbered DOI-BLM-NV-S010-2017-0034-DNA was prepared in conjunction with this Notice of Realty Action. This sale is consistent with Section 203 of FLPMA, and meets the following disposal criteria: “such tract because of its location or other characteristics is difficult and uneconomic to manage as part of the public lands, and is not suitable for management by another Federal department or agency.” The subject parcel of land is located in a heavily developed residential and commercial area. These lands are not needed for Federal purposes and the United States has no present interest in the property.

The land also meets the criteria for direct sale under FLPMA, Section 203(a)(3) and 43 CFR 2711.3-3(a), which states “Direct sales (without competition) may be utilized, when in the opinion of the authorized officer, a competitive sale is not appropriate and the public interest would best be served by a direct sale.” The parcel will be offered through direct sale procedures pursuant to 43 CFR 2711.3-3. No other land uses are expected for these lands.

The SNPLMA allows for the disposal of public lands within a specific boundary around Las Vegas, Nevada. The funds generated by this proposed non-competitive (direct sale) will be used throughout Nevada for projects such as the development of parks, trails, and natural areas, capital improvements on Federal lands, acquisition of environmentally sensitive land, and landscape restoration projects. Additionally, 5 percent of the revenue goes to the State of Nevada General Education Fund and 10 percent to the Southern Nevada Water Authority.

According to 43 CFR 2711.2, qualified conveyees must be: (1) A citizen of the United States 18 years of age or older; (2) A corporation subject to the laws of any state or of the United States; (3) A State instrumentality, or political subdivision authorized to hold property; or (4) An entity legally capable of conveying and holding lands or interests therein under the laws of the State of Nevada. Evidence of United States citizenship is a birth certificate, passport, or naturalization papers. Failure to submit the above documents to the BLM within 30 days from receipt of the purchase price letter will result in cancellation of the sale and forfeiture of the deposit. Citizenship documents and Articles of Incorporation (as applicable) must be provided to the BLM-Las Vegas Field Office for each sale.

According to SNPLMA as amended, Public Law 105-263 section 4(c), lands identified within the Las Vegas Valley Disposal Boundary are withdrawn from location and entry under the mining laws and from operation under the mineral leasing and geothermal leasing laws until such time as the Secretary terminates the withdrawal or the lands are patented.

Publication of this Notice in the Federal Register segregates the subject lands from all forms of appropriation under the public land laws. Any subsequent applications will not be accepted, will not be considered as filed, and will be returned to the applicant if the notice segregates from the use applied for in the application. The segregative effect of this Notice terminates upon issuance of a patent or other document of conveyance to such lands; publication in the Federal Register of a termination of the segregation; or after the 180 days from the sale offer date of this publication, whichever occurs first.

Terms and Conditions: All minerals for the sale parcel will be reserved to the United States. The patent, when issued, will contain a mineral reservation to the United States for all minerals.

The public land would not be offered for sale to the City of Henderson until at least December 4, 2018, at the appraised fair market value of $4,120,000. A copy of the approved appraisal report is available at the address above. The patent, when issued to the City of Henderson, will be subject to the following terms, and conditions:

1. All mineral deposits in the lands so patented, and to it, or persons authorized by it, the right to prospect for, mine, and remove such deposits from the same under applicable law and regulations to be established by the Secretary of the Interior are reserved to the United States, together with all necessary access and exit rights;

2. A right-of-way is reserved for ditches or canals constructed by the authority of the United States, Act of August 30, 1890 (43 U.S.C. 945);

3. A right-of-way for Federal Aid Highway purposes reserved to Federal Aid Highway Administration, for road purposes to Nevada Department of Transportation (Nev-031066), its successors or assigns pursuant to the Act of November 9, 1921 (042 Stat. 0216);

4. The parcel is subject to all valid existing rights;

5. The parcel is subject to reservations for road, public utilities, and flood control purposes, both existing and proposed, in accordance with SNPLMA and the local governing entities' transportation plans; and

6. An appropriate indemnification clause protecting the United States from claims arising out of the lessee's/patentee's use, occupancy, or occupations on the leased/patented lands.

Pursuant to the requirements established by Section 120(h) of the Comprehensive Environmental Response, Compensation and Liability Act, 42 U.S.C. 9620(h) (CERCLA), as amended, notice is hereby given that the land has been examined and no evidence was found to indicate that any hazardous substances have been stored for one year or more, nor have any hazardous substances been disposed of or released on the subject property. To the extent required by law, all parcels are subject to the requirements of Section 120(h) of CERCLA.

It is the City of Henderson's responsibility to be aware of all applicable Federal, State, and local government laws, regulations, and policies that may affect the subject lands, including any required dedication of lands for public uses. It is also the City of Henderson's responsibility to be aware of existing or prospective uses of nearby properties. When conveyed out of Federal ownership, the lands will be subject to any applicable laws, regulations, and policies of the applicable local government for proposed future uses. It is the responsibility of the City of Henderson to be aware through due diligence of those laws, regulations, and policies, and to seek any required local approvals for future uses. The City of Henderson should make itself aware of any Federal or State law or regulation that may affect the future use of the property. Any land lacking access from a public road or highway will be conveyed as such, and future acquisition for access will be the responsibility of the City of Henderson.

The City of Henderson will have until 4:30 p.m., Pacific Time (PT), 30 days from the date of receiving the sale offer to accept the offer and submit a deposit of 20 percent of the purchase price. The City of Henderson must remit the remainder of the purchase price within 180 days from the date of receiving the sale offer to the Las Vegas Field Office. Payment must be received in the form of a certified check, postal money order, bank draft, or cashier's check payable to the U.S. Department of the Interior—BLM. Failure to meet conditions established for this sale will void the sale and any funds received will be forfeited. The BLM will not accept personal or company checks.

Arrangements for electronic fund transfer to the BLM for the payment of the balance due must be made a minimum of 2 weeks prior to the payment date.

In accordance with 43 CFR 2711.3-1(f), within 30 days the BLM may accept or reject any offer to purchase, or interest therein from sale if the BLM authorized officer determines consummation of the sale would be inconsistent with any law, or for other reasons as may be provided by applicable law or regulations. No contractual or other rights against the United States may accrue until the BLM officially accepts the offer to purchase and the full price is paid.

The parcel may be subject to land use applications received prior to publication of this Notice if processing the application would have no adverse effect on the marketability of title, or the fair market value of the parcel. Information concerning the sale, encumbrances of record, appraisals, reservations, procedures, and conditions, CERCLA, and other environmental documents that may appear in the BLM public files for the sale parcel, is available for review during business hours, 8:00 a.m. to 4:30 p.m. PT, Monday through Friday, at the BLM-Las Vegas Field Office, except during Federal holidays.

The parcel of land will not be offered for sale prior to December 4, 2018. Only written comments submitted by postal service or overnight mail will be considered as properly filed. Electronic mail, facsimile, or telephone comments will not be considered.

Submit comments on this sale Notice to the address in the ADDRESSES section. Before including your address, phone number, email address, or other personally identifiable information in your comment, be advised that your entire comment—including your personally identifiable information—may be made publicly available at any time. While you can ask the BLM in your comment to withhold from public review your personally identifiable information, we cannot guarantee that we will be able to do so.

Any adverse comments regarding the sale will be reviewed by the BLM Nevada State Director or other authorized official of the Department of the Interior, who may sustain, vacate, or modify this realty action in response to such comments. In the absence of any comments, this realty action will become the final determination of the Department of the Interior.

(Authority: 43 CFR 2711)

Gayle Marrs-Smith,
Field Manager, Las Vegas Field Office.

[FR Doc. 2018-21737 Filed 10-4-18; 8:45 am]

BILLING CODE 4310-HC-P